TENNESSEE VALLEY AUTHORITY

[Meeting No. 13-04]

Sunshine Act Meeting

The TVA Board of Directors will hold a public meeting on November 14, 2013, at The Inn at Ole Miss, Oxford, Mississippi. The public may comment on any agenda item or subject at a public listening session which begins at 9 a.m. (CT). Following the end of the public listening session, the meeting will be called to order to consider the agenda items listed below. On-site registration will be available until 15 minutes before the public listening session begins at 9 a.m. (CT). Preregistered speakers will address the Board first. TVA management will answer questions from the news media following the Board meeting.

Status: Open.

Agenda

Chairman's Welcome

Old Business

Approval of minutes of August 22, 2013, Board Meeting

New Business

1. Report from President and CEO

2. Report of the Finance, Rates, and Portfolio Committee

A. Financial Performance Update

B. Section 13 Tax Equivalent Payments

C. Generation Fleet Planning

1. Coal Retirements and Gas Capacity

3. Report of the People and Performance Committee

A. Fiscal Year 2013 Performance and Compensation

B. Board Chair

4. Report of the Audit, Risk, and Regulation Committee

A. Accounting Treatment of Regulatory Assets

5. Report of the Nuclear Oversight Committee

A. Watts Bar 2 Update

6. Report of the External Relations Committee

7. Committee Assignments

8. Recognition of Director Neil McBride

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 7, 2013.
Ralph E. Rodgers,
General Counsel and Secretary.

[FR Doc. 2013-27219 Filed 11-8-13; 11:15 am]

BILLING CODE 8120-08-P